SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection to the OMB Desk Officer and SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA has submitted the information collection listed below to OMB for clearance. Your comments on the information collection would be most useful if OMB and SSA receive them within 30 days from the date of this publication. To be sure we consider your comments, we must receive them no later than September 17, 2010. You can obtain a copy of the OMB clearance package by calling the SSA Reports Clearance Officer at 410-965-8783 or by writing to the above e-mail address.

Social Security Benefits Application—20 CFR 404.310-404.311, 404.315-404.322, 404.330-404.333, 404.601-404.603, and 404.1501-404.1512—0960-0618. This collection comprises the various application modalities for retirement, survivors, and disability benefits. These modalities include paper forms (SSA Forms SSA-1, SSA-2, and SSA-16), Modernized Claims System (MCS) screens for in-person field office interview applications, as well as the Internet-based iClaim and iAppointment applications. SSA will use the information to determine if applicants are eligible for the above-mentioned Social Security benefits and the amount of the benefits. This information collection request is for additions and revisions to the current information collection modalities. The respondents are applicants for retirement, survivors, and disability benefits.

Type of Request: Revision of an OMB-approved information collection.

Collection method | Number of respondents | Frequency of response | Average burden per response (minutes) | Estimated annual burden (hours)
Paper Forms/Accompanying MCS Screens
Form SSA-1:
MCS | 172,200 | 1 | 11 | 31,570
MCS/Signature Proxy | 1,250,800 | 1 | 10 | 208,467
Paper | 20,000 | 1 | 11 | 3,667
Medicare-only MCS | 299,000 | 1 | 7 | 34,883
Medicare-only Paper | 1,000 | 1 | 7 | 117
Totals | 1,743,000 |  |  | 278,704
Form SSA-2:
MCS | 36,860 | 1 | 15 | 9,215
MCS/Signature Proxy | 331,740 | 1 | 14 | 77,406
Paper | 3,800 | 1 | 15 | 950
Totals | 372,400 |  |  | 87,571
Form SSA-16:
MCS | 218,657 | 1 | 20 | 72,886
MCS/Signature Proxy | 1,967,913 | 1 | 19 | 623,172
Paper | 24,161 | 1 | 20 | 8,054
Totals | 2,210,731 |  |  | 704,112
Internet Applications
iClaim:
iClaim 3rd Party | 28,118 | 1 | 15 | 7,030
iClaim Applicant after 3rd Party Completion | 28,118 | 1 | 5 | 2,343
First Party iClaim | 541,851 | 1 | 15 | 135,463
Medicare-only iClaim | 200,000 | 1 | 10 | 33,333
Totals | 798,087 |  |  | 178,169
iAppointment:
iAppointment | 200,000 | 1 | 10 | 33,333

Aggregate Public Reporting Burden: 1,281,889 hours.

Dated: August 13, 2010.
Liz Davidson,
Center Director, Center for Reports Clearance, Social Security Administration.

[FR Doc. 2010-20382 Filed 8-17-10; 8:45 am]

BILLING CODE 4191-02-P